DEPARTMENT OF AGRICULTURE

Forest Service

Fremont Winema National Forests; Oregon; Proposed Forest Plan Amendments for the Ruby Pipeline L.L.C. Project

AGENCY: Forest Service, USDA.

ACTION: Notice of intent to prepare an environmental impact statement (FERC Ruby Pipeline Project) and request for comments on the proposed forest plan amendments for the Fremont Land and Resource Management Plan to be included in the Ruby Project.

SUMMARY: The USDA Forest Service (Forest Service), Fremont Winema National Forests, is proposing to prepare an amendment to the Fremont National Forest Land and Resource Management Plan (Forest Plan) for the proposed Ruby Pipeline Project (Project). The Federal Energy Regulatory Commission (FERC) is the lead agency for this proposed natural gas pipeline (Docket No. CP09-54-000). The staff of FERC is preparing an Environmental Impact Statement (EIS) that will discuss the environmental impacts that could result from the construction and operation of a new underground natural gas pipeline proposed by Ruby Pipeline, LLC (Ruby). The Project's proposed facilities consist of 675.2 miles of 42-inch-diameter natural gas pipeline, four new compressor stations, and related facilities. The USDA Forest Service, Fremont Winema National Forests is participating as a cooperating agency because the Project traverses the Fremont Winema National Forests in Oregon. As a cooperating agency, the U.S. Forest Service, Fremont Winema National Forests intends to adopt the FERC EIS per Title 40 CFR 1506.3, to meet its National Environmental Policy Act (NEPA) responsibilities.

FERC, as lead federal agency in the preparation of the EIS, is preparing the EIS to satisfy the requirements of NEPA. NEPA requires FERC to take into account the environmental impacts that could result from an action when it considers whether or not an interstate natural gas pipeline should be issued a Certificate of Public Convenience and Necessity for construction of the pipeline. FERC will use the EIS to consider the environmental impacts that could result if it issues project authorizations. FERC will use the EIS in its decision-making processes to determine whether or not to authorize the Project. FERC initiated its pre-filing process on January 31, 2008 and issued a Notice of Intent (NOI) to prepare an EIS for this Project on September 26, 2008.

The USDA Forest Service will use the EIS to evaluate the proposed amendments to the Fremont Forest Plan and for any forest plan amendment decisions made subsequently should FERC authorize this Project. The Forest Service has determined that an amendment to the Fremont Forest Plan would be needed because the Project would not meet the plan Standards and Guidelines for soil disturbance, visual quality, mechanical disturbance in seeps and springs, and old growth management. Analysis of the effects of the amendment will be included in the FERC EIS. This notice announces the intention to prepare an amendment to the Fremont Forest Plan.

DATES: Comments concerning the scope of the analysis must be received by April 20, 2009. The draft environmental impact statement is expected in June, 2009 and the final environmental impact statement is expected in October 2009.

ADDRESSES: Send written comments to Glen Westlund, Forest Environmental Coordinator, 2819 Dahlia Street, Klamath Falls, OR 97601. Comments may also be sent via e-mail to comments-pacificnorthwest-fremont-winema@fs.fed.us, or via facsimile to 541-883-6709.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

FOR FURTHER INFORMATION CONTACT: Glen Westlund; Phone 541-883-6743; e-mail at gwestlund@fs.fed.us; or by mail at the above address.

Individuals who use telecommunication devices for the deaf (TDD) may call the Federal Information Relay Service (FIRS) at 1-800-877-8339 between 8 a.m. and 8 p.m., Eastern Time, Monday through Friday.

SUPPLEMENTARY INFORMATION:

Purpose and Need for Action

If the Ruby Pipeline is approved and constructed there will be a need to exempt the construction activity from several standards and guidelines found in the Fremont National Forest Land and Resource Management Plan (Forest Plan) or to relocate a management area. The route of the pipeline crosses east-west through the forest and could not avoid passing through portions of Management Areas: 6—Scenic; 14—Old Growth; and 15—Fish and Wildlife Habitat and Water Quality as well as portions of soil capability areas 1, 2, 3 and scabland portions of capability area 13 covered by general forest standards and guidelines. Resource protection was considered in the route location and the current route reflects resource concerns like avoiding special interest areas in MA 7 or inventoried roadless areas. The general forest standard and guideline for detrimental soil conditions would not be met because equipment activity would be confined to the clearing limits, causing more than 20 percent of soil in the activity area to be detrimentally impacted. For the construction to occur, the Forest Plan will need amending.

Proposed Action

Approximately 14 miles of right-of-way (ROW) will be located on the Fremont National Forest disturbing about 328 acres, including temporary storage and staging areas. Ruby is proposing to use a 115 foot wide construction right-of-way with a 50 foot wide permanent ROW over the top of the pipeline. All work sites would be restored. The following Forest Plan amendments are proposed:

1. General Forest Plan Standard and Guideline for Soils Management, Forest Plan pages 80 to 81. Add item (5) under the Operational Considerations for Surface Soil Condition which says: During and immediately after construction of the Ruby Pipeline the soil conditions within the activity area (construction right-of-way) will be permitted to exceed the 20 percent standard and guideline for detrimental soil condition. The implementation of Ruby's Upland Erosion, Revegetation and Mitigation Plan would reduce erosion impacts and minimize impacts to soil productivity.

2. General Forest Standard and Guideline for Soils Management, Forest Plan pages 83 and 84. Add a statement under item 4, operational considerations “During installation of the Ruby pipeline exposed mineral soil standards displayed in Table 21 will be exceeded; however with the extra mitigation proposed in Ruby's Upland Erosion, Revegetation and Mitigation Plan, these standards would be achieved.”

3. Management Area 6—Scenic Viewsheds: The pipeline crosses through a portion of Management Area 6 when it crosses FR 3915; the area has a VQO of foreground retention and middleground partial retention. Item B will be added to Land Uses on Forest Plan page 154: B. The cleared corridor needed to install the Ruby pipeline will not immediately meet VQO objectives of retention and partial retention. Mitigation measures, including vegetation management and restoration actions, will occur to move the construction corridor toward current visual quality objectives over an extended timeframe.

4. Management Area 14—Old Growth habitat: The pipeline crosses through a stand of dedicated old growth. The best stands either meeting or soon to meet old growth standards will be designated as replacement.

5. Management Area 15—Fish and Wildlife Habitat and Water Quality: The crossing of seeps and springs is expected to be uncommon. The pipeline is known to cross one seasonal seep. The following statement will be added under Seeps and Springs, management treatments on Forest plan page 204. (d) Construction equipment necessary to install the Ruby pipeline will be permitted in the area of seeps and springs. Implementation of Ruby's Upland Erosion, Revegetation and Mitigation Plan and special construction measures would minimize impacts.

Responsible Official

The responsible official of the Forest Plan amendments will be the Forest Supervisor of the Frement Winema National Forests.

Nature of Decision To Be Made

Determine what forest plan standards and guideline would need to be amended to allow the construction of the Ruby pipeline if FERC approves the project. These amendments would apply only to Ruby pipeline and are expected to be limited in scope.

Scoping Process

This notice of intent initiates the scoping process for the forest plan amendment. The decision will be tiered to the analysis contained in the FERC EIS for the Ruby Pipeline Project. FERC has already performed the scoping process for the EIS. This NOI is to inform about the Fremont Winema National Forest's need to amend the Fremont Forest Plan, which did not get included in the original FERC NOI scoping period for the Ruby Project. A scoping letter will be mailed to those currently on the Forests' mailing list. No other methods of scoping will be used. The Fremont Forest Plan can be found on the Forests' Web page at http://www.fs.fed.us/r6/frewin/projects/forestplan/index.shtml. Comments should be focused on the forest plan amendments and not about the decision whether to construct the pipeline or not. There will be another opportunity to comment on the construction aspect when the DEIS is available in June 2008.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

March 11, 2009.
Karen Shimamoto,
Forest Supervisor.

[FR Doc. E9-5989 Filed 3-18-09; 8:45 am]

BILLING CODE 3410-11-P